DEPARTMENT OF THE INTERIOR

National Park Service

[NPS-USPP-15826; PPWOUSPPS1, PPMPRPP02.Y00000 (155)]

Proposed Information Collection; United States Park Police Application Forms

AGENCY: National Park Service, Interior.

ACTION: Notice; request for comments.

SUMMARY: We (National Park Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on March 31, 2017. We may not conduct or sponsor and a person is not required to respond to a collection of information unless it displays a currently valid OMB control number.

DATES: You must submit comments on or before July 28, 2015.

ADDRESSES: Send your comments on the IC to Madonna L. Baucum, Information Collection Clearance Officer, National Park Service, 12201 Sunrise Valley Drive (Room 2C114, Mail Stop 242), Reston, VA 20192 (mail); or madonna_baucum@nps.gov (email). Please include “1024-0245” in the subject line of your comments.

FOR FURTHER INFORMATION CONTACT: To request additional information about this IC, contact Pamela Blyth, United States Park Police, 1100 Ohio Drive SW., Washington, DC 20242 (mail); or at pamela_blyth@nps.gov (email). Please reference “1024-0245 Revision” in your comments.

SUPPLEMENTARY INFORMATION:

I. Abstract

The United States Park Police (USPP) is a unit of the National Park Service, Department of the Interior, with jurisdiction in all National Park Service areas and certain other Federal and State lands. The USPP are highly trained, professional police officers who prevent and detect criminal activity; conduct investigations; apprehend individuals suspected of committing offenses against Federal, State, and local laws; provide protection to the President of the United States and visiting dignitaries; and provide protective services to some of the most recognizable monuments and memorials in the world. Applicants for USPP officer positions must complete and pass a competitive written examination, an oral interview, a medical examination and psychological evaluation, and a battery of physical fitness and agility tests. As part of this application and screening process, the USPP uses the following forms:

USPP Form (TBD) “Physician Consent Form”

The USPP Form TBD “Physician Consent Form” is an optional form used by the applicant to obtain clearance by their personal physician to complete the PEB. The applicant's personal physician uses this form to certify whether or not the applicant is cleared to participate in the Physical Efficiency Battery (PEB) and requests the following information pertaining to the physician making the physical suitability determination:

• Name,

• complete mailing address,

• telephone number, and

• physician's comments.

USPP Form (TBD) “Physical Efficiency Battery “Waiver” ”

An applicant's physical fitness is assessed using the PEB. The PEB consists of five measures of physical fitness including: Body composition, determined through subcutaneous fat folds; flexibility, determined by sit and reach; agility, measured by negotiating a time obstacle course; muscular strength, determined with one maximal chest press; and cardiovascular endurance, measured by a timed 1.5 mile walk/run. The applicant may choose to self-certify their ability to complete the PEB by completing the optional USPP Form (TBD) “Physical Efficiency Battery “Waiver” ” which requests the candidate provide the following information as part of the self-certification process:

• Date of last medical evaluation,

• name and address of personal physician,

• purpose of last medical examination,

• identification of any known medical conditions the USPP must be made aware of, and

• documentation to support identified known medical conditions.

USPP Form (TBD) “Release to Obtain a Credit Report”

Applicants are also required to complete USPP Form (TBD) “Release to Obtain a Credit Report” as part of the application process. Information obtained on this form is used in connection with the applicant's background investigation is used to determine their:

1. Fitness for Federal employment,

2. clearance to perform contractual service for the Federal Government, and/or

3. security clearance or access.

Information collected on the USPP Form (TBD) “Release to Obtain a Credit Report” includes personally identifiable information (PII), to include:

• Full name,

• Social Security Number,

• date of birth,

• current and former home addresses,

• home telephone number,

• current employer's name, and

• current occupation.

USPP Form (TBD) “Applicant Documentation Form”

The USPP Form (TBD) “Applicant Documentation Form” is an optional form used by applicants to either decline or defer employment with the USPP. The form collects the following PII:

• Name,

• Social Security Number,

• address,

• telephone,

• date and location of written test, and

• reason for declining or deferring employment with the USPP.

USPP Form 1 “United States Park Police Personal History Statement”

USPP Form 1 “United States Park Police Personal History Statement,” also known as the “Blue Book,” is used to collect detailed personal history information from applicants. Investigators verify the information provided to determine an applicant's suitability for a USPP officer position. The information collected includes, but is not limited to:

• Personal background information, including financial data and residence history,

• selective Service information and military data,

• references,

• education and employment information,

• driving record, arrest/conviction data, and criminal history information,

• illegal drug usage,

• alcohol usage,

• gambling information, and

• miscellaneous information, such as firearm permits, special skills, other languages, hobbies and interests, other enforcement agencies where applicant applied, and whether or not applicant previously applied for a USPP officer position.

USPP Form (TBD) Personal Essay—“Why I Want to Be a United States Park Police Officer”

Applicants are required to write a personal essay (minimum of 200 words) describing in their own words why they want to be a USPP officer. The applicant's essay must also address:

• How they became aware of the USPP,

• what they think the role of a park police officer should be, and

• their career aspirations/expectations as a USPP officer.

USPP Form (TBD) “Disqualification for Misdemeanor Convictions for Domestic Violence”

On September 30, 1996, Title 18 U.S.C. Section 922 (g) (9) took effect, making it a felony for anyone who has been convicted of a misdemeanor crime of domestic violence to possess a firearm or ammunition. Thus, any law enforcement officer and other government employees who have been convicted of a domestic violence misdemeanor may not lawfully possess or receive firearms or ammunition for any purpose, including performance of their official duties. Candidates for USPP officers are required to disclose information pertaining to convictions of domestic violence, to include whether the candidate was convicted of a misdemeanor crime of domestic violence, and if yes, the following information is required to be disclosed or the candidate will be automatically disqualified from the application process:

• Court/jurisdiction,

• docket/case number,

• statute, charge,

• date sentenced, and

• whether the conviction was expunged or set aside, or whether they were pardoned for the offense.

II. Data

OMB Control Number: 1024-0245.

Title: United States Park Police Application Forms.

Service Form Number(s):

• USPP Form (TBD) “Physician Consent Form”

• USPP Form (TBD) “Physical Efficiency Battery “Waiver” ”

• USPP Form (TBD) “Release to Obtain a Credit Report,” and

• USPP Form (TBD) “Applicant Documentation Form”

• USPP Form 1 “Personal History Statement”

• USPP Form (TBD) Personal Essay—“Why I Want to Be a United States Park Police Officer”

• USPP Form (TBD) “Disqualification for Misdemeanor Convictions for Domestic Violence”

Type of Request: Revision of a currently approved collection.

Description of Respondents: Candidates for employment as a United States Park Police officer.

Respondent's Obligation: Required to obtain or retain a benefit.

Frequency of Collection: On occasion.

Activity | Estimated annual number of responses | Estimated completion time per response | Estimated total annual burden hours
USPP Form (TBD) “Physician Consent Form” | 2,500 | 10 min | 417
USPP Form (TBD) “Physical Efficiency Battery “Waiver”” | 2,500 | 5 | 208
USPP Form (TBD) “Release to Obtain a Credit Report” | 2,500 | 5 | 208
USPP Form (TBD) “Applicant Documentation Form” | 2,500 | 5 | 208
USPP Form 1 “United States Park Police Personal History Statement” | 2,500 | 8 hours | 20,000
USPP Form (TBD) Personal Essay—“Why I Want to Be a United States Park Police Officer” | 2,500 | 30 min | 1,250
USPP Form (TBD) “Disqualification for Misdemeanor Convictions for Domestic Violence” | 2,500 | 5 min | 208
TOTALS | 17,500 |  | 22,499

Estimated Annual Nonhour Burden Cost: $227,500, primarily for costs (1) associated with printing and notarizing the application and (2) incurred to provide supporting documentation.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: May 26, 2015.
Debra Melton,
Acting Information Collection Clearance Officer, National Park Service.

[FR Doc. 2015-13039 Filed 5-28-15; 8:45 am]

BILLING CODE 4310-EH-P